NATIONAL AERONAUTICS AND SPACE ADMINISTRATION

[Notice: (23-115)]

National Space-Based Positioning, Navigation and Timing Advisory Board; Meeting

AGENCY: National Aeronautics and Space Administration.

ACTION: Notice of meeting.

SUMMARY: In accordance with the Federal Advisory Committee Act, the National Aeronautics and Space Administration (NASA) announces a meeting of the National Space-Based Positioning, Navigation and Timing (PNT) Advisory Board. This will be the 29th meeting of the PNT Advisory Board.

DATES: Wednesday, December 6, 2023, from 9:00 a.m.-6:00 p.m., Central Time; and Thursday, December 7, 2023, from 9:00 a.m.-12:00 p.m., Central Time.

ADDRESSES: South Shore Harbour Resort and Conference Center; 2500 South Shore Blvd., League City, TX 77573.

FOR FURTHER INFORMATION CONTACT: Mr. James Joseph Miller, Designated Federal Officer, PNT Advisory Board, Space Operations Mission Directorate, NASA Headquarters, Washington, DC 20546, (202) 262-0929 or jj.miller@nasa.gov.

SUPPLEMENTARY INFORMATION: This meeting will be open to the public up to the capacity of the meeting room. In-person attendees will be requested to sign a register prior to entrance to the proceedings. Webcast details to watch the meeting remotely will be available on the PNT Advisory Board website at: www.gps.gov/governance/advisory/.

The agenda for the meeting will include the following:

• Updates from PNT Advisory Board Subcommittees:

○ Communications and External Relations (CER) Subcommittee

○ Education and Science Innovation (ESI) Subcommittee

○ Emerging Capabilities, Applications and Sectors (ECAS) Subcommittee

○ International Engagement (IE) Subcommittee

○ Protect, Toughen and Augment (PTA) Subcommittee

○ Strategy, Policy and Governance (SPG) Subcommittee

• PNT Expert Briefings

• Review and Approval of any PNT Advisory Board White Papers

• Deliberations on any Proposed Findings and Recommendations

• Other PNT Advisory Board Business and Upcoming Work Plan Schedule

For further information, visit the PNT Advisory Board website at: https://www.gps.gov/governance/advisory/.

It is imperative that the meeting be held on this date to meet the scheduling availability of key participants.

Patricia Rausch,
Advisory Committee Management Officer, National Aeronautics and Space Administration.

[FR Doc. 2023-24815 Filed 11-8-23; 8:45 am]

BILLING CODE 7510-13-P